DEPARTMENT OF LABOR

Employment and Training Administration

[NAFTA-6018]

Johnson Controls International, Fullerton, CA; Notice of Revised Determination on Reconsideration

By letter of August 20, 2002, the International Union, United Automobile, Aerospace & Agriculture Implement Workers of America (UAW), requested administrative reconsideration of the Department's denial of North American Free Trade Agreement-Transitional Adjustment Assistance (NAFTA-TAA), applicable to workers of Johnson Controls International, Fullerton, California. The denial notice was published in the Federal Register on July 22, 2002 (67 FR 47862).

The initial investigation resulted in a negative determination issued on July 9, 2002, based on the finding that there was no shift in production to Canada or Mexico and imports of automotive batteries from Canada and Mexico did not contribute importantly to worker separations at the Fullerton plant.

To support the request for reconsideration, the union provided additional information, which was not provided during the initial investigation. The union official indicated that the company had entered into a joint venture with another company that had production capacity in Mexico. As a result of this partnership, Johnson Controls had replaced batteries produced at the subject firm with Mexican production.

Upon further review and contact with a company official, it was revealed that the company replaced their domestic production of dry automotive batteries with dry automotive batteries from the affiliated Mexican plant, leading to layoffs at the subject firm.

Conclusion

After careful consideration of the new facts obtained on reconsideration, it is concluded that increased imports from Mexico of dry automotive batteries contributed importantly to the decline in production and to the total or partial separation of workers at the subject firm. In accordance with the provisions of the Trade Act, I make the following certification:

“All workers of Johnson Controls International, Fullerton, California, who became totally or partially separated from employment on or after March 27, 2001, through two years from the date of this certification, are eligible to apply for adjustment assistance under Section 223 of the Trade Act of 1974.”

Signed in Washington, DC this 10th day of February 2003.
Edward A. Tomchick,
Director, Division of Trade Adjustment Assistance.

[FR Doc. 03-4289 Filed 2-21-03; 8:45 am]

BILLING CODE 4510-30-P